DEPARTMENT OF HOUSING AND URBAN DEVELOPMENT

[Docket No. FR-6113-N-03]

Announcement of Funding Awards

AGENCY: Office of Strategic Planning and Management, HUD.

ACTION: Notice.

SUMMARY: In accordance with the Department of Housing and Urban Development Reform Act of 1989, this announcement notifies the public of funding decisions made by the Department in competitions for funding under the Notices of Funding Availability (NOFAs) for the following programs: Fiscal Year (FY) 2015 Violence Against Women Act (VAWA) and Housing Opportunities for Persons With AIDS (HOPWA) Project Demonstration; FY 2013 Housing Opportunities for Persons with AIDS (HOPWA) Permanent Supportive Housing (PSH) renewal grants; FY 2014 Housing Opportunities for Persons with AIDS (HOPWA) Permanent Supportive Housing (PSH) renewal grants; FY 2015 Housing Opportunities for Persons with AIDS (HOPWA) Permanent Supportive Housing (PSH) Renewal Grants; FY 2016 Housing Opportunities for Persons with AIDS (HOPWA) Permanent Supportive Housing (PSH) Renewal Grants; FY 2017 Housing Opportunities for Persons with AIDS (HOPWA) Permanent Supportive Housing (PSH) Renewal Grants; and FY 2018 Housing Opportunities for Persons with AIDS (HOPWA) Permanent Supportive Housing (PSH) Renewal Grants; FY 2017 Self Help Homeownership Opportunity; FY 2017 Continuum of Care Program Competition; and FY 2017 Research and Evaluation, Demonstrations and Data Analysis and Utilization Program (HUDRD).

FOR FURTHER INFORMATION CONTACT: Office of Strategic Planning and Management, Grants Management and Oversight Division at AskGMO@hud.gov or the contact person listed in each appendix.

SUPPLEMENTARY INFORMATION: The FY 2015 Violence Against Women Act (VAWA) and Housing Opportunities for Persons With AIDS (HOPWA) Project Demonstration competition was announced in the NOFA published on grants.gov on January 4, 2016 (FR-5900-N-11B) and which closed on March 8, 2016. Applications were rated and selected for funding based on selection criteria contained in the NOFA. HUD awarded $9,220,280 to 16 recipients to improve cross-agency planning, resource utilization, and service integration among HIV/AIDS housing providers and sexual assault, domestic violence, dating violence, and stalking service providers. Grantees provide housing assistance and supportive services to low-income persons living with HIV/AIDS who are homeless, or in need of transitional housing or other housing assistance as a result of sexual assault, domestic violence, dating violence, or stalking, and for whom emergency shelter services or other crisis intervention services are unavailable or insufficient.

The FY 2013 Housing Opportunities for Persons with AIDS (HOPWA) Permanent Supportive Housing (PSH) renewal grants was announced on December 20, 2012 as Memorandum to eligible applicants and which closed on January 29, 2013. HUD awarded $32,336,685 to 30 recipients pursuant to the authority provided by the Continuing Appropriations Act, 2013 (Pub. L. 112-175, approved September 14, 2012), and successor authority for FY 2013. The Department renewed all eligible expiring HOPWA competitive grants that provide permanent supportive housing (PSH) and meet applicable program requirements.

The FY 2014 Housing Opportunities for Persons with AIDS (HOPWA) Permanent Supportive Housing (PSH) renewal grants was announced on January 31, 2014 as a Memorandum to eligible applicants and which closed on March 14, 2014. HUD awarded $29,066,748 to 26 recipients pursuant to the authority provided by the Consolidated Appropriations Act of 2014, continuing resolution, and/or appropriations act. The Department renewed all eligible expiring HOPWA permanent supportive housing (PSH) competitive grants that met applicable program requirements.

The FY 2015 Housing Opportunities for Persons with AIDS (HOPWA) Permanent Supportive Housing (PSH) Renewal Grants was announced on January 20, 2015, Notice CPD-15-01, and which closed on March 13, 2015. HUD awarded $29,270,455 to 25 recipients pursuant to the authority provided by the Consolidated and Further Continuing Appropriations Act, 2015, (Pub. L. 113-235, approved December 16, 2014). The Department renewed all eligible expiring HOPWA permanent supportive housing (PSH) competitive grants initially funded with appropriated funds from FY 2010 or earlier that met applicable program requirements.

The FY 2016 Housing Opportunities for Persons with AIDS (HOPWA) Permanent Supportive Housing (PSH) Renewal Grants was announced on March 21, 2016, Notice CPD-16-03, and which closed on April 15, 2016. HUD awarded $24,005,214 to 25 recipients pursuant to the authority provided by the Consolidated Appropriations Act, 2016, (Pub. L. 114-113, approved December 8, 2015). The Department renewed all eligible expiring HOPWA permanent supportive housing competitive grants initially funded with appropriated funds from FY 2010 or earlier that met applicable program requirements.

The FY 2017 Housing Opportunities for Persons with AIDS (HOPWA) Permanent Supportive Housing (PSH) Renewal Grants was announced on February 16, 2017, Notice CPD-16-02, and which closed on March 31, 2017. HUD awarded $37,733,248 to 32 recipients pursuant to the authority provided by the Consolidated Appropriations Act, 2017, (Pub. L. 115-31, approved May 5, 2017). The Department renewed all eligible expiring HOPWA permanent supportive housing competitive grants initially funded with appropriated funds from FY 2010 or earlier that met applicable program requirements.

The FY 2018 Housing Opportunities for Persons with AIDS (HOPWA) Permanent Supportive Housing (PSH) Renewal Grants was announced on May 9, 2018, Notice CPD-18-07, and which closed on June 11, 2018. HUD awarded $23,811,493 to 22 recipients pursuant to the authority provided by the Department of Housing and Urban Development Appropriations Act, 2018 (Pub. L. 115-141, Div. L, Title II, approved March 23, 2018). The Department renewed all eligible expiring HOPWA permanent supportive housing (PSH) competitive grants initially funded with appropriated funds from FY 2010 or earlier provided they meet applicable program requirements.

HUD announced the FY 2017 Self-Help Homeownership Opportunity competition in the NOFA published on grants.gov on October 25, 2017 (FR-6100-N-19). HUD rated and selected applications for funding based on selection criteria contained in the NOFA. HUD awarded $10,000,000 to 4 recipients to facilitate and encourage innovative homeownership opportunities on a national and geographically-diverse basis. The program supports self-help housing programs that require a significant amount of sweat equity by the homebuyer toward the construction or rehabilitation of his or her home.

HUD announced the FY 2017 Continuum of Care Program competition in the NOFA published on grants.gov on September 28, 2018 (FR-6100-N-25). HUD rated and selected applications for funding based on selection criteria contained in the NOFA. HUD awarded $19,519,1040 to 69 recipients for the Continuum of Care program that awarded $2 billion to projects that house persons experiencing homelessness throughout the country.

HUD announced the FY 2017 Research and Evaluation, Demonstrations and Data Analysis and Utilization Program (HUDRD) competition in the NOFA published on grants.gov on August 15, 2017 (FR-6100-N-29). HUD rated and selected applications for funding based on selection criteria contained in the NOFA. HUD awarded $890,661 to 3 recipients for both projects described in the NOFA. Project 1, Child Trajectories in HUD-Assisted Housing, sought to understand childhood trajectories of children and youth residing in HUD-assisted housing by comparing differences in trajectories among HUD-assisted children (e.g., compare HUD-assisted children who had few adverse childhood events and HUD-assisted children who had many adverse childhood experiences), or comparing differences in trajectories among HUD-assisted children and youth with one or more non-HUD cohorts. Project 2, the Social and Economic Impacts of the Community Development Block Grant Program, sought to develop a better understanding of the effects of specific Community Development Block Grant (CDBG) eligible activities. Through this project, HUD seeks to identify objective, quantifiable outcome measures that can be attributed to specific CDBG activities in order to inform policymakers at the federal, state, and local levels.

In accordance with section 102(a)(4)(C) of the Department of Housing and Urban Development Reform Act of 1989 (103 Stat. 1987, 42 U.S.C. 3545(a)(4)(C)), the Department is publishing the awardees and the amounts of the awards in the Appendices A-J to this document.

Dated: May 22, 2019.
Chris Walsh,
Director, Grants Management and Oversight.

Appendix A

FY2015 FY 2015 Violence Against Women Act (VAWA) and Housing Opportunities for Persons With AIDS (HOPWA) Project Demonstration

Contact: Lisa Steinhauer, 215-861-7651.

Award No. | Organization | Address | City | State | Zip code | Award amount
CA-H15-0001 | City of San Jose Department of Housing | 200 East Santa Clara Street, 12th Floor | San Jose | CA | 95113 | $1,089,000
CA-H15-0005 | Volunteers of America of Los Angeles | 3600 Wilshire Blvd., Suite 1500 | Los Angeles | CA | 90010 | 1,068,681
DC-H15-0001 | District of Columbia Department of Health | 899 North Capitol Street NE, 4th Floor | Washington | DC | 20020 | 1,100,000
LA-H15-0001 | Unity of Greater New Orleans | 2475 Canal Street, Suite 300 | New Orleans | LA | 70119 | 1,096,850
MO-H15-0001 | City of Kansas City, MO | 414 E 12th Street, 29th Floor | Kansas City | MO | 64106 | 817,720
NY-H15-0001 | Gay Men's Health Crisis, Inc | 446 W 33rd Street | New York | NY | 10001 | 1,085,977
NY-H15-0003 | Unity House of Troy, Inc | 2431 Sixth Avenue | Troy | NY | 12180 | 869,257
OR-H15-0001 | Multnomah County Joint Office of Homeless Services | 421 SW Oak Street, Suite 105 | Portland | OR | 97204 | 602,795
CA-H15-0002 | City of San Jose Department of Housing | 200 East Santa Clara Street, 12th Floor | San Jose | CA | 95113 | 197,520
CA-H15-0004 | Volunteers of America of Los Angeles | 3600 Wilshire Blvd., Suite 1500 | Los Angeles | CA | 90010 | 185,259
DC-H15-0002 | District of Columbia Department of Health | 899 North Capitol Street NE, 4th Floor | Washington | DC | 20020 | 197,520
LA-H15-0002 | Unity of Greater New Orleans | 2475 Canal Street, Suite 300 | New Orleans | LA | 70119 | 197,520
MO-H15-0002 | City of Kansas City, MO | 414 E 12th Street, 29th Floor | Kansas City | MO | 64106 | 191,520
NY-H15-0002 | Gay Men's Health Crisis, Inc | 446 W 33rd Street | New York | NY | 10001 | 197,520
NY-H15-0004 | Unity House of Troy, Inc | 2431 Sixth Avenue | Troy | NY | 12180 | 197,519
OR-H15-0002 | Multnomah County Joint Office of Homeless Services | 421 SW Oak Street, Suite 105 | Portland | OR | 97204 | 125,622
Total |  |  |  |  |  | 9,220,280

Appendix B

FY2013 Housing Opportunities for Persons With AIDS (HOPWA) Permanent Supportive Housing (PSH) Renewal Grants

Contact: Lisa Steinhauer, 215-861-7651.

Grant No. | Organization name | Address | City | State | Zip code | Award amount
AL-H130012 | Health Services Center, Inc | 608 Martin Luther King, Jr. Drive | Anniston | AL | 36202 | $855,617
AL-H130024 | AIDS Alabama | 3521 7th Avenue South | Birmingham | AL | 35222 | 905,893
AZ-H130015 | Pima County | 2797 East Ajo Way | Tucson | AZ | 85713 | 1,385,585
CA-H130005 | City of San Jose | 200 E Santa Clara Street | San Jose | CA | 95113 | 1,309,810
CA-H130013 | San Francisco Mayor's Office of Housing | 1 South Van Ness Avenue, 5th Floor | San Francisco | CA | 94103 | 1,461,622
CA-H130025 | Housing Services Affiliate—Bernal Heights Neighborhood Center | 515 Cortland Avenue | San Francisco | CA | 94110 | 526,667
DE-H130016 | Delaware HIV Consortium | 100 W 10th Street, Suite 415 | Wilmington | DE | 19801 | 793,213
FL-H130017 | I.M. Sulzbacher | 611 East Adams Street | Jacksonville | FL | 32202-2847 | 1,215,572
FL-H130026 | City of Key West | 1400 Kennedy Drive | Key West | FL | 33040 | 1,464,404
GA-H130028 | City of Savannah, Project House Call | Bull & Bay Street | Savannah | GA | 31402-1027 | 703,089
GA-H130029 | City of Savannah, Daniel-Flagg Villas | Bull & Bay Street | Savannah | GA | 31402-1027 | 289,382
IL-H130002 | University of Illinois, College of Medicine | 909 S Marshfield Avenue | Chicago | IL | 60612-7205 | 1,252,469
IL-H130027 | Cornerstone Services, Inc | 777 Joyce Road | Joliet | IL | 60436 | 954,716
KY-H130007 | Kentucky Housing Corporation | 1231 Louisville Road | Frankfort | KY | 40601-6156 | 475,046
LA-H130018 | Unity of Greater New Orleans | 2475 Canal Street, Suite 300 | New Orleans | LA | 70119 | 840,903
MA-H130019 | Justice Resource Institute | 160 Gould Street, Suite 300 | Needham | MA | 02494-2300 | 1,437,212
MA-H130030 | Action, Inc | 180 Main Street | Gloucester | MA | 01930 | 1,284,452
MD-H130010 | Health Care for Homeless, Inc | 421 Fallsway | Baltimore | MD | 21202 | 1,297,808
MN-H130003 | Clare Housing | 929 Central Avenue NE | Minneapolis | MN | 55413 | 986,114
NJ-H130006 | New Jersey Department of Health | 50 East State Street, 3rd Floor | Trenton | NJ | 08625-0363 | 1,328,365
NM-H130031 | Santa Fe Community Housing Trust | P.O. Box 713 | Santa Fe | NM | 87504-0713 | 1,324,438
NY-H130004 | The Fortune Society | 2976 Northern Boulevard | Long Island City | NY | 11101 | 1,180,129
OR-H130008 | Our House of Portland | 2727 SE Alder Street | Portland | OR | 97214 | 1,050,849
OR-H130020 | Oregon State Department of Human Services, Behavioral Health Program | 800 NE Oregon Street, Suite 1105 | Portland | OR | 97232 | 1,215,218
OR-H130021 | Oregon State Department of Human Services, Re-entry Program | 801 NE Oregon Street, Suite 1105 | Portland | OR | 97232 | 1,364,352
PA-H130022 | Asociacion De Puertorriquenos en Marcha, Inc | 4301 Rising Sun Avenue | Philadelphia | PA | 19140 | 1,371,215
RI-H130014 | Rhode Island Housing Mortgage Finance Corporation (Sunrise Project) | 44 Washington Street | Providence | RI | 02903 | 1,276,243
RI-H130023 | Rhode Island Housing Mortgage Finance Corporation (New Transitions) | 44 Washington Street | Providence | RI | 02903 | 780,242
WA-H130009 | Downtown Emergency Service Center | 515 3rd Avenue | Seattle | WA | 98104 | 636,640
WI-H130032 | AIDS Resource Center of Wisconsin | 820 N Plankington Avenue | Milwaukee | WI | 53203 | 1,369,420
Total |  |  |  |  |  | 32,336,685

Appendix C

FY2014 Housing Opportunities for Persons With AIDS (HOPWA) Permanent Supportive Housing (PSH) Renewal Grants

Contact: Lisa Steinhauer, 215-861-7651.

Grant No. | Organization name | Address | City | State | Zip code | Award amount
AK-H140010 | Alaska Housing Finance Corporation | 4300 Boniface Parkway | Anchorage | AK | 99510 | $956,642.00
AL-H140017 | AIDS Alabama, Inc | 3521 7th Avenue, South | Birmingham | AL | 35222-352 | 978,286.00
AL-H140025 | Health Services Center, Inc | 608 MLK Drive | Anniston | AL | 36202 | 926,965.00
AZ-H140014 | Cochise County | 1415 Melody Lane | Bisbee | AZ | 85603 | 655,584.00
CO-H140001 | Del Norte Neighborhood Development Corp | 2926 Zuni Street | Denver | CO | 80211 | 653,579.00
ID-H140005 | Idaho Housing and Finance Association | 565 W Myrtle Street | Boise | ID | 83702 | 1,390,268.00
IL-H140002 | AIDS Foundation of Chicago | 200 W Jackson Blvd., Suite 2200 | Chicago | IL | 60606-6954 | 1,419,482.00
IL-H140015 | AIDS Foundation of Chicago | 200 W Jackson Blvd., Suite 2200 | Chicago | IL | 60606-6954 | 1,423,774.00
KY-H140011 | Lexington-Fayette Urban County Government | 200 East Main Street | Lexington | KY | 40507-1310 | 1,437,920.00
MD-H140018 | City of Baltimore, DHCD | 7 E Redwood | Baltimore | MD | 21202 | 1,424,500.00
MD-H140022 | AIDS Interfaith Residential Services, Inc | 1800 North Charles Street | Baltimore | MD | 21201 | 1,380,200.00
MN-H140003 | Salvation Army, Harbor Lights | 2445 Prior Avenue | Roseville | MN | 55113 | 483,771.00
MN-H140008 | Clare Housing | 929 Central Avenue NE | Minneapolis | MN | 55413 | 420,906.00
MS-H140023 | Grace House | 236 Millsaps Avenue | Jackson | MS | 39202 | 1,221,580.00
MT-H140006 | State of Montana | 1400 Carter Drive | Helena | MT | 59601 | 1,474,000.00
NH-H140009 | Harbor Homes, Inc | 45 High Street | Nashua | NH | 03060 | 541,656.00
NH-H140019 | State of New Hampshire | 129 Pleasant Street | Concord | NH | 03301 | 1,003,767.00
NH-H140026 | City of Nashua | 229 Main Street | Nashua | NH | 03060 | 1,430,000.00
NY-H140007 | Greyston Health Services, Inc | 21 Park Avenue | Yonkers | NY | 10703 | 1,397,518.00
NY-H140020 | Bailey House, Inc | 7251 Park Avenue | New York | NY | 10035 | 1,366,694.00
TN-H140016 | Kingsport Housing and Redevelopment Authority | 906 East Sevier Avenue | Kingsport | TN | 37660 | 1,149,864.00
TX-H140024 | Tarrant County Community Development Division | 1509B S University Drive, Suite 276 | Fort Worth | TX | 76107 | 993,216.00
VI-H140004 | Methodist Training and Outreach Center, Inc | 4-A Kronprindsens Gade | St. Thomas, Virgin Islands | VI | 00803 | 1,474,000.00
VT-H140021 | Vermont Housing and Conservation Board | 58 East State Street | Montpelier | VT | 05602 | 1,473,017.00
WA-H140012 | State of Washington | 101 Plum Street | Olympia | WA | 98504-2525 | 1,342,803.00
WY-H140013 | Wyoming Department of Health | 6101 Yellowstone Road, Suite 510 | Cheyenne | WY | 82009-3445 | 646,756.00
Total |  |  |  |  |  | 29,066,748.00

Appendix D

FY2015 Housing Opportunities for Persons With AIDS (HOPWA) Permanent Supportive Housing (PSH) Renewal Grants

Contact: Lisa Steinhauer, 215-861-7651.

Grant No. | Organization name | Address | City | State | Zip code | Award amount
AK-H150012 | Alaska Hsng Finance Corp | P.O. Box 101020 | Anchorage | AK | 99510-1020 | $781,269.00
CA-H150003 | City of Los Angeles | 1200 W 7th Street, 9th Floor | Los Angeles | CA | 90017 | 1,501,500.00
CA-H150015 | Luthern Social Services of Northern California | 1465 Civic Court, Bldg. D, Suite 810 | Concord | CA | 94520 | 1,276,170.00
CA-H150018 | Salvation Army Alegria | 180 East Ocean Blvd., Suite 500 | Long Beach | CA | 90802-4708 | 1,062,519.00
DE-H150025 | Ministry of Caring, Inc | 506 N Church Street | Wilmington | DE | 19801-482 | 790,298.00
HI-H150001 | Maui A.I.D.S. Foundation | 1935 Main Street, Suite 101 | Wailuku | HI | 96793-1784 | 1,441,159.00
HI-H150010 | Gregory House Programs | 200 N Vineyard Blvd.. Suite A310 | Honolulu | HI | 96817 | 1,390,650.00
IL-H150013 | City of Chicago Public Health Dept | 333 S State Street | Chicago | IL | 60604-3946 | 1,487,815.00
IL-H150016 | AIDS Foundation of Chicago | 200 W Jackson Blvd, Suite 2100 | Chicago | IL | 60641-6954 | 1,472,777.00
IL-H150017 | Chicago House & Social Service Agency, Inc | 1925 N Clybourn, Suite 401 | Chicago | IL | 60614-4940 | 1,285,370.00
IL-H150023 | Interfaith Residence Dba Doorways | 4385 Maryland Avenue | St. Louis | MO | 63106 | 965,658.00
MA-H150007 | Community Healthlink, Inc | 72 Jaques Avenue | Worcester | MA | 01610-2476 | 899,274.00
MA-H150021 | AIDS Action committee of Mass | 75 Amory Street | Boston | MA | 02119-9008 | 1,415,025.00
MD-H150022 | City of Baltimore | 7 E Redwood Street, 5th Floor | Baltimore | MD | 21202 | 1,405,950.00
ME-H150004 | Frannie Peabody Center | 30 Danforth Street, Suite 311 | Portland | ME | 04101 | 1,054,799.00
ME-H150008 | Frannie Peabody Center | 30 Danforth Street, Suite 311 | Portland | ME | 04101 | 1,309,169.00
ME-H150019 | City of Portland/Frannie Peabody Center | 30 Danforth Street, Suite 311 | Portland | ME | 04101 | 1,432,653.00
MI-H150005 | Cass Community Social Services, Inc | 11850 Woodrow Wilson | Detroit | MI | 48206-1351 | 1,348,970.00
MO-H150014 | Interfaith Residence Dba Doorways | 4385 Maryland Avenue | St. Louis | MO | 63106 | 1,109,912.00
MT-H150006 | The MT Department of Public Health and Human Services | 1400 Carter Drive | Helena | MT | 59717 | 1,482,040.00
NH-H150020 | State of New Hampshire | 129 Pleasant Street | Concord | NH | 03301-3852 | 734,770.00
NY-H150009 | Bailey House, Inc | 1751 Park Avenue | New York | NY | 10035-2831 | 1,081,922.00
PA-H150002 | Calcutta House | 1601 W Girard Avenue | Philadelphia | PA | 19130-1614 | 837,303.00
VT-H150011 | Burlington Housing Authority | 65 Mian Street | Burlington | VT | 05401-8408 | 392,906.00
WI-H150024 | AIDS Resource Center of Wisconsin | 820 N Plankinton Avenue | Milwaukee | WI | 53203-1802 | 1,310,577.00
Total |  |  |  |  |  | 29,270,455.00

Appendix E

FY2016 Housing Opportunities for Persons With AIDS (HOPWA) Permanent Supportive Housing (PSH) Renewal Grants

Contact: Lisa Steinhauer, 215-861-7651.

Grant No. | Organization name | Address | City | State | Zip code | Award amount
AL-H160007 | Health Services Center, Inc | 608 MLK Drive, P.O. Box 1347 | Anniston | AL | 36202-7344 | $855,617
AL-H160016 | AIDS Alabama, Inc | 3529 7th Avenue South | Birmingham | AL | 35222-2222 | 856,507
CA-H160001 | Alameda County | 224 W Winton Avenue, Room 108 | Hayward | CA | 94544-1215 | 1,483,094
CA-H160004 | City of San Jose | 200 E Santa Clara Street | San Jose | CA | 95113-1903 | 1,273,655
CA-H160008 | City and County of San Francisco | Mayor's Office of Housing and Community Development, 1 S Van Ness Avenue, 5th Floor | San Francisco | CA | 94103-1267 | 1,430,000
CA-H160017 | Bernal Heights Housing Corporation | 515 Cortland Avenue | San Francisco | CA | 94110-5611 | 492,883
CO-H160026 | Del Norte Neighborhood Development Corporation | 3275 W 14th Avenue #202 | Denver | CO | 80204-2232 | 612,379
DE-H160010 | Delaware HIV Consortium | 100 W 10th Street, Suite 415 | Wilmington | DE | 19801-1643 | 757,211
FL-H160013 | I.M. Sulzbacher Center for the Homeless, Inc | 611 East Adams Street | Jacksonville | FL | 32202-2847 | 1,215,572
FL-H160018 | City of Key West | 1400 Kennedy Drive | Key West | FL | 33040-4008 | 1,430,000
GA-H160021 | City of Savannah (Daniel Flagg Villas) | Bull & Bay Street, P.O. Box 1027 | Savannah | GA | 31402-1027 | 269,278
GA-H160023 | City of Savannah (Project House Call) | Bull & Bay Street, P.O. Box 1027 | Savannah | GA | 31402-1027 | 685,696
IL-H160020 | Cornerstone Services, Inc | 777 Joyce Road | Joliet | IL | 60436-1877 | 926,244
KY-H160002 | Kentucky Housing Corporation | 1231 Louisville Road | Frankfort | KY | 40601-6156 | 434,160
LA-H160014 | UNITY of Greater New Orleans | 2475 Canal Street, Suite 300 | New Orleans | LA | 70119-6555 | 804,912
MA-H160011 | Justice Resource Institute, Inc | 160 Gould Street, Suite 300 | Needham | MA | 02494-2300 | 1,405,430
MD-H160006 | Health Care for Homeless, Inc | 421 Fallsway | Baltimore | MD | 21202-4800 | 1,265,112
MN-H160022 | Clare Housing | 929 Central Avenue, NE | Minneapolis | MN | 55413-3021 | 951,376
NJ-H160025 | New Jersey Department of Health & Senior Services | 50 East State Street, 3rd Floor, P.O. Box 363 | Trenton | NJ | 08625-0363 | 1,295,910
OR-H160003 | Our House of Portland | 2727 SE Alder Street | Portland | OR | 97214-3015 | 1,016,535
OR-H160012 | Oregon Health Authority | 800 NE Oregon Street, Suite 1105 | Portland | OR | 97232-2187 | 1,215,218
RI-H160009 | Rhode Island Housing and Mortgage Finance Corporation (Sunrise Project) | 44 Washington Street | Providence | RI | 02903-1721 | 1,240,606
RI-H160015 | Rhode Island Housing and Mortgage Finance Corporation (New Transitions) | 44 Washington Street | Providence | RI | 02903-1721 | 741,355
TX-H160005 | City of Dallas | 1500 Marilla, 4EN | Dallas | TX | 75201-6318 | 746,853
WA-H160019 | Downtown Emergency Service Center | 515 3rd Avenue | Seattle | WA | 98104-2304 | 599,611
Total |  |  |  |  |  | 24,005,214

Appendix F

FY2017 Housing Opportunities for Persons With AIDS (HOPWA Permanent Supportive Housing (PSH) Renewal Grants

Contact: Lisa Steinhauer, 215-861-7651.

Grant No. | Organization name | Address | City | State | Zip code | Award amount
AL-H170001 | AIDS Alabama, Inc | 3529 7TH AVE S | BIRMINGHAM | AL | 35222-3210 | $937,228.00
AZ-H170003 | Pima County (AZ) | 2797 East Ajo Way | Tucson | AZ | 85713 | 1,353,465.00
IL-H170007 | AIDS Foundation of Chicago | 200 W Jackson Blvd | Chicago | IL | 60606-6944 | 1,423,648.00
IL-H170004 | The Board of Trustees of the University of Illinois | 809 S Marshfield Avenue Urban Health & Diversity Progm | Chicago | IL | 60612-7205 | 1,252,469.00
MN-H170005 | The Salvation Army, Harbor Lights | 2445 Prior Avenue | Roseville | MN | 55113 | 467,299.00
NM-H170002 | Santa Fe Community Housing Trust | P.O. Box 713 | Santa Fe | NM | 87504 | 1,314,280.00
VI-H170006 | Methodist Training & Outreach Center, Inc | 4-A Kronprindsens Gade | St. Thomas | VI | 00803 | 1,435,614.00
AK-H170008 | Alaska Housing Finance Corp | 4300 Boniface Parkway | Anchorage | AK | 99510 | 915,442.00
AL-H170009 | Health Services Center, Inc | 608 Martin Luther King Jr. Drive | Anniston | AL | 36201-7344 | 885,765.00
AZ-H170025 | Cochise County | 1415 Melody Lane, Bldg. A | Bisbee | AZ | 85603-0000 | 611,584.00
HI-H170010 | Maui A.I.D.S. Foundation | 1935 Main Street, Suite 101 | Wailuku | HI | 96793-1784 | 1,441,159.00
ID-H170029 | Idaho Housing and Finance Association | 565 W Myrtle St., Housing Counseling | Boise | ID | 83707-1899 | 1,349,185.00
IL-H170030 | AIDS FOUNDATION OF CHICAGO | 200 W Jackson Blvd., FL. 21 | CHICAGO | IL | 60606-6942 | 1,382,574.00
KY-H170017 | Lexington, Fayette Urban County Government | 200 East Main Street | Lexington | KY | 40507-1310 | 1,430,000.00
MA-H170022 | Action, Inc | 180 MAIN ST., FL. 2 | GLOUCESTER | MA | 01930-6002 | 1,284,452.00
MD-H170018 | AIDS Interfaith Residential Services, Inc | 1800 N CHARLES ST., STE 700 | BALTIMORE | MD | 21201-5992 | 1,339,000.00
MD-H170031 | City of Baltimore, DHCD | 7 E Redwood | Baltimore | MD | 21202 | 1,424,500.00
MN-H170019 | Clare Housing | 929 Central Ave. NE | Minneapolis | MN | 55413-2404 | 420,902.00
MS-H170016 | Grace House | 236 Millsaps Avenue | Jackson | MS | 39202 | 1,221,580.00
MT-H170014 | Montana Dept of Public Health & Human Services | 2401 Colonial Dr | Helena | MT | 59604-4909 | 1,430,000.00
NH-H170012 | City of Nashua, NH | 229 Main Street, Community Development Division | Nashua | NH | 03060-2938 | 1,430,000.00
NH-H170011 | Harbor Homes, Inc | 45 High Street | Nashua | NH | 03060 | 500,457.00
NH-H170020 | New Hampshire Department of Health and Human Services | 129 PLEASANT ST | CONCORD | NH | 03301-3852 | 966,900.00
NY-H170023 | Greyston Health Services, Inc | 21 Park Avenue | Yonkers | NY | 10703 | 1,346,087.00
NY-H170026 | The Bailey House, Inc | 1751 Park Ave | New York | NY | 10035 | 1,325,494.00
OR-H170015 | The Oregon Health Authority | 800 NE Oregon Street, Suite 1105 | Portland | OR | 97232-2187 | 1,371,362.00
PA-H170021 | Asociacion De Puertorriquenos en Marcha, Inc | 4301 Rising Sun Avenue | Philadelphia | PA | 19140 | 1,339,000.00
TN-H170013 | Kingsport Housing & Redevelopment Authority | 906 E Sevier Avenue | Kingsport | TN | 37662-0044 | 1,108,664.00
TX-H170027 | Tarrant County Community Development Division | 1509B S University Dr., Suite 276 | Fort Worth | TX | 76107 | 950,966.00
VT-H170028 | Vermont Housing and Conservation Board | 58 East State Street | Montpelier | VT | 05602-3044 | 1,433,508.00
WA-H170032 | The State of Washington | 1011 Plum Street | Olympia | WA | 98504-0001 | 1,301,664.00
WI-H170024 | AIDS Resource Center of Wisconsin | 820 N Plankinton Ave | Milwaukee | WI | 53203 | 1,339,000.00
Total |  |  |  |  |  | 37,733,248.00

Appendix G

FY2018 Housing Opportunities for Persons With AIDS (HOPWA) Permanent Supportive Housing (PSH) Renewal Grants

Contact: Lisa Steinhauer, 215-861-7651.

Grant No. | Organization name | Address | City | State | Zip code | Award amount
AK-H180009 | State of Alaska—Alaska Housing Finance Corporation | 4300 Boniface Parkway | Anchorage | AK | 99508-4387 | $767,362
CA-H180012 | Lutheran Social Services of Northern California | 1465 Civic Court | Concord | CA | 00009-4520 | 1,275,787
CA-H180017 | Salvation Army Alegria | 180 East Ocean Boulevard | Long Beach | CA | 90802-4708 | 1,062,519
DE-H180020 | Ministry of Caring, Inc | 115 E 14th Street | Wilmington | DE | 19801-3209 | 790,298
HI-H180007 | Gregory House Programs | 200 North Vineyard Blvd | Honolulu | HI | 96817-3950 | 1,390,650
IL-H180010 | City of Chicago Public Health Dept | 333 S State Street | Chicago | IL | 60604-3946 | 1,483,352
IL-H180014 | AIDS Foundation of Chicago | 200 W Jackson Blvd | Chicago | IL | 60606-6944 | 1,450,980
IL-H180015 | Chicago House & Social Service Agency, Inc | 1925 N Clybourn Avenue | Chicago | IL | 60614-4940 | 1,276,244
IL-H180018 | Interfaith Residence Dba Doorways (IL) | 4385 Maryland Avenue | St. Louis | MO | 63108-2703 | 965,163
MA-H180005 | Community Healthlink, Inc | 72 Jaques Avenue | Boston | MA | 01610-2476 | 837,404
MA-H180021 | Fenway Community Health Center, Inc | 1340 Boyle St | Worcester | MA | 02215-4302 | 1,394,366
ME-H180004 | Frannie Peabody Center (150004) | 30 Danforth Street | Portland | ME | 04101-4574 | 1,041,192
ME-H180022 | Frannie Peabody Center (ME-H150008) | 30 Danforth Street | Portland | ME | 04101-4574 | 1,309,169
MI-H180001 | Cass Community Social Services, Inc | 11745 Rosa Parks Blvd | Detroit | MI | 48206-1269 | 1,348,970
MO-H180011 | Interfaith Residence Dba Doorways (MO) | 4385 Maryland Avenue | St. Louis | MO | 63108-2703 | 1,109,357
MT-H180003 | State of Montana—MT Department of Public Health & Human Services | 1400 Carter Dr | Helena | MT | 59601-6400 | 1,482,040
NH-H180019 | State of New Hampshire | 129 Pleasant St | Concord | NH | 03301-3852 | 733,521
NY-H180013 | Bailey House, Inc | 1751 Park Avenue | New York | NY | 10035-2831 | 1,038,429
PA-H180006 | Calcutta House | 1601 W Girard Avenue | Philadelphia | PA | 19130-1614 | 837,303
VT-H180016 | Burlington Housing Authority | 65 Main Street | Burlington | VT | 05401-8408 | 382,494
WI-H180008 | AIDS Resource Center of Wisconsin | 820 N Plankinton Ave | Milwaukee | WI | 53203-1802 | 1,261,955
WY-H180002 | Wyoming Department of Health | 6101 Yellowstone Road | Cheyenne | WY | 82009-3445 | 572,938
Total |  |  |  |  |  | 23,811,493.00

Appendix H

FY2017 Self-Help Homeownership Opportunity

Contact: Dr. Jackie L. Williams (202) 708-2290.

Grantee | State | Amount awarded
Housing Assistance Council | DC | $1,104,723.00
Community Frameworks | WA | 1,494,903.00
Tierra Del Sol Housing Corporation (Consortium) | NM | 2,213,103.00
Habitat for Humanity International, Inc | GA | 5,187,271.00
Total |  | 10,000,000

Appendix I

FY2017 Continuum of Care Program Competition

Contact: Ebony Rankin (202) 402-2505.

Org. name | Street address | City | State | Zip code | Award amount
Albergue El Paraiso Corporation | P.O. BOX 11740 | Santurce | PR | 00910 | $301,939
Albergue El Paraiso Corporation | P.O. BOX 11740 | Santurce | PR | 00910 | 224,297
Casa Protegida Julia de Burgos | P.O. BOX 362433 | San Juan | PR | 00936-2433 | 414,306
Casa Protegida Julia de Burgos | P.O. BOX 362433 | San Juan | PR | 00936-2433 | 231,728
Coalicion de Apoyo Continuo a Personas sin Hogar en San Juan | Corporate Office Park Edificio ASG Suite 302; Calle 20 Bo. Monacillos | San Juan | PR | 00928 | 579,586
Coalition of Guaynabo | Street 169 Guaynabo Office Center; Bo. Los Frailes | Guaynabo | PR | 00970-7886 | 206,541
Corporacion La Fondita de Jesus | #704 Monserrate Street | Santurce | PR | 00907 | 790,821
Corporacion La Fondita de Jesus | #704 Monserrate Street | Santurce | PR | 00907 | 301,999
Corporacion La Fondita de Jesus | #704 Monserrate Street | Santurce | PR | 00907 | 670,922
Hogar del Buen Pastor | 250 Ave. de la Constitucion; Puerta de Tierra | San Juan | PR | 00901 | 682,180
Hogar del Buen Pastor | 251 Ave. de la Constitucion; Puerta de Tierra | San Juan | PR | 00901 | 114,953
Hogar Ruth Albergue Para Mujeres Maltratadas | P.O. Box 538 | Vega Alta | PR | 00692 | 410,552
La Perla de Gran Precio | Calle Gautier Benitez #66; Urb. Floral Park | San Juan | PR | 00917 | 209,033
La Perla de Gran Precio | Calle Gautier Benitez #66; Urb. Floral Park | San Juan | PR | 00918 | 93,408
La Perla de Gran Precio | Calle Gautier Benitez #66; Urb. Floral Park | San Juan | PR | 00919 | 322,062
La Perla de Gran Precio | Calle Gautier Benitez #66; Urb. Floral Park | San Juan | PR | 00920 | 121,351
Lucha Contra el SIDA | P.O. Box 8479 | San Juan | PR | 00910-0479 | 539,142
Lucha Contra el SIDA | P.O. Box 8479 | San Juan | PR | 00910-0479 | 78,555
Lucha Contra el SIDA | P.O. Box 8479 | San Juan | PR | 00910-0479 | 185,603
Lucha Contra el SIDA | P.O. Box 8479 | San Juan | PR | 00910-0479 | 294,000
Lucha Contra el SIDA | P.O. Box 8479 | San Juan | PR | 00910-0479 | 392,418
Programa Guara Bi | P.O. Box 6581 | San Juan | PR | 00726 | 199,579
Puerto Rico Department of the Family | Ave. Barbosa 306; P.O. Box 11398 | San Juan | PR | 00910-1398 | 397,985
Puerto Rico Department of the Family | Ave. Barbosa 306; P.O. Box 11398 | San Juan | PR | 00910-1398 | 1,064,057
Puerto Rico Mental Health and Anti-Addiction Services Administration | Road No. 2 Km 8.2; Bo. Juan Sánchez Antiguo Hospital Mepsi Center | Bayamón | PR | 00959 | 1,507,760
Puerto Rico Mental Health and Anti-Addiction Services Administration | Road No. 2 Km 8.2; Bo. Juan Sánchez Antiguo Hospital Mepsi Center | Bayamón | PR | 00959 | 335,621
Municipality of San Juan | P.O. BOX 70179 | San Juan | PR | 00923-8179 | 220,294
Municipality of San Juan | P.O. BOX 70179 | San Juan | PR | 00923-8179 | 320,572
Municipality of San Juan | P.O. BOX 70179 | San Juan | PR | 00923-8179 | 337,558
Municipality of San Juan | P.O. BOX 70179 | San Juan | PR | 00923-8179 | 494,012
Municipality of San Juan | P.O. BOX 70179 | San Juan | PR | 00923-8179 | 194,947
Municipality of San Juan | P.O. BOX 70179 | San Juan | PR | 00923-8179 | 94,088
Silo Mision Cristiana | Carr #2 Km 42.6; Barrio Algarrobo | Vega Baja | PR | 00693 | 207,653
Solo Por Hoy | 1716 Ave. Santa Inez; Urb. Altamesa | San Juan | PR | 00921 | 151,940
Solo Por Hoy | 1716 Ave. Santa Inez; Urb. Altamesa | San Juan | PR | 00921 | 229,873
Municipality of Vega Alta | P.O. BOX 1390 | Vega Alta | PR | 00692 | 144,200
Municipality of Vega Baja | Padilla Street #41; Edif. Rafael Cano Llovio | Vega Baja | PR | 00693 | 262,654
Municipality of Vega Baja | Padilla Street #41; Edif. Rafael Cano Llovio | Vega Baja | PR | 00693 | 167,757
Municipality of Aguas Buenas, PR | P.O. Box 128 | Aguas Buenas | PR | 00703 | 57,146
Municipality of Caguas | P.O. Box 907 | Caguas | PR | 00726 | 372,534
Casa de la Bondad | P.O. Box 8999 | Humacao | PR | 00792-8999 | 84,612
Cayey, PR | Bo. Montellano; Carr PR #1 km 56.2 | Cayey | PR | 00737 | 209,580
Centro Deambulantes Cristo Pobre | Calle Union #124 | Ponce | PR | 00733-4651 | 347,917
Coalicion de Coaliciones Pro Personas Sin Hogar de Puerto Rico | 44 Isabel St | Ponce | PR | 00730 | 576,090
Coalicion de Coaliciones Pro Personas Sin Hogar de Puerto Rico | 44 Isabel St | Ponce | PR | 00730 | 265,166
Corporacion Milagros del Amor | 78 Gautier Benitez; P.O. Box 6445 | Caguas | PR | 00726-6445 | 162,054
Corporacion Milagros del Amor | 78 Gautier Benitez; P.O. Box 6445 | Caguas | PR | 00726-6445 | 219,989
Fundacion de Desarrollo Comunal de Puerto Rico | P.O. Box 6300; Rafael Cordero Ave., 2nd. Floor, Plaza del Mercado, Suite #18 | Caguas | PR | 00726-6300 | 301,252
Municipio de Guayama | 26 Vicente Pales St | Guayama | PR | 00784 | 107,413
Hogar Fortaleza del Caido | Parcelas Vieques; calle #79 | Loíza | PR | 00772 | 86,887
Hogar Luz de Vida | P.O. Box 4007 | Mayaguez | PR | 00681 | 266,533
Hogar Nueva Mujer Santa Maria de la Merced | LAS PARRAS 3, SECTOR MOGOTE; BARRIO TOITA | Cayey | PR | 00736 | 218,750
MUNICIPIO DE HORMIGUEROS | MATEO FAJARDO #1 | HORMIGUEROS | PR | 00660 | 46,150
Humacao, PR | P.O. Box 178 | Humacao | PR | 00792 | 78,754
Isabela, PR | 75 CORCHADO ST | Isabela | PR | 00662 | 44,880
Jayuya Municipality | Cementerio Strret | Jayuya | PR | 00664 | 53,230
Lucha Contra el SIDA | P.O. Box 8479 | San Juan | PR | 00910-0479 | 609,189
Lucha Contra el SIDA | P.O. Box 8479 | San Juan | PR | 00910-0479 | 364,445
Municipality of Mayagüez | Ramon Emeterio Betances #123 South | Mayagüez | PR | 00681 | 147,029
MUNICIPIO DE NAGUABO | P.O. BOX 40 | Naguabo | PR | 00718 | 75,445
Ponce, PR | P.O. BOX 331709 | Ponce | PR | 00733-1709 | 127,362
Programa Guara Bi | P.O. Box 6581 | San Juan | PR | 00726 | 201,809
Programa Guara Bi | P.O. Box 6581 | San Juan | PR | 00726 | 143,447
Proyecto Matria | Calle Jimenez Sicardo #31 | Caguas | PR | 00725 | 478,820
Yauco, PR | P.O. Box 1; 13 Santiago Vivaldi Street | Yauco | PR | 00698 | 33,468
Yauco, PR | P.O. Box 1; 13 Santiago Vivaldi Street | Yauco | PR | 00698 | 207,836
Methodist Training and Outreach Center | #4-A Kronprindsens Gade | St. Thomas | VI | 00802 | 68,474
VI Department of Human Services | 1303 Hospital Ground Ste. 1 | St. Thomas | VI | 00802-6722 | 40,320
Virgin Islands Housing Finance Authority | 3202 Demarara Plaza; Suite 200 | St. Thomas | VI | 00802-6447 | 26,577
Total |  |  |  |  | 19,519,104

Appendix J

FY2017 The Research and Evaluation, Demonstrations and Data Analysis and Utilization Program (HUDRD)

Contact: Curtissa Coleman (202) 402-7580.

Recipient | Address | City | Zip code | Amount
Project 1:
University of North Carolina at Chapel Hill | Off. Of Sponsored Research, 104 Airport Dr., Suite 2002, CB1360 | Chapel Hill, NC | 27699-1360 | $311,871
Project 2:
Woodstock Institute | 29 E Madison St., Ste. 710 | Chicago, IL | 60602-4566 | 335,027
The University of Idaho | 876 Perimeter Dr | Moscow, ID | 83844-3020 | 243,763
Total Projects |  |  |  | 890,661

[FR Doc. 2019-12154 Filed 6-7-19; 8:45 am]

BILLING CODE 4210-67-P